SECURITIES AND EXCHANGE COMMISSION

[Release No. 34-67677; File No. SR-EDGA-2012-28]

Self-Regulatory Organizations; EDGA Exchange, Inc.; Notice of Designation of a Longer Period for Commission Action on Proposed Rule Change To Amend EDGA Rules To Add the Route Peg Order

August 16, 2012.

On June 26, 2012, EDGA Exchange, Inc. (“Exchange”) filed with the Securities and Exchange Commission (“Commission”), pursuant to Section 19(b)(1) of the Securities Exchange Act of 1934 (“Act”) ¹ and Rule 19b-4 thereunder,² a proposed rule change to amend Exchange Rule 11.5 to provide an additional order type, the Route Peg Order. In addition, the Exchange proposed to amend Exchange Rule 11.8 to describe the priority of the Route Peg Order relative to other orders on the EDGA Book. The proposed rule change was published for comment in the Federal Register on July 5, 2012.³ The Commission received no comment letters on the proposed rule change.

¹ 15 U.S.C. 78s(b)(1).

² 17 CFR 240.19b-4.

³ See Securities Exchange Act Release No. 67291 (June 28, 2012), 77 FR 39785.

Section 19(b)(2) of the Act ⁴ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is August 19, 2012. The Commission is extending this 45-day time period.

⁴ 15 U.S.C. 78s(b)(2).

The Commission finds it appropriate to designate a longer period within which to take action on the proposed rule change so that it has sufficient time to consider issues concerning the proposed rule change, which would offer a new order type, the Route Peg Order, on the Exchange.

Accordingly, the Commission, pursuant to Section 19(b)(2) of the Act,⁵ designates October 3, 2012 as the date by which the Commission should either approve or disapprove, or institute proceedings to determine whether to disapprove, the proposed rule change (File No. SR-EDGA-2012-28).

⁵ 15 U.S.C. 78s(b)(2).

For the Commission, by the Division of Trading and Markets, pursuant to delegated authority.⁶
⁶ 17 CFR 200.30-3(a)(31).
Elizabeth M. Murphy,
Secretary.

[FR Doc. 2012-20593 Filed 8-21-12; 8:45 am]

BILLING CODE 8011-01-P